DEPARTMENT OF JUSTICE

Antitrust Division

Notice Pursuant to the National Cooperative Research and Production Act of 1993; Portland Cement Association (“PCA”)

The notice on behalf of Portland Cement Association (“PCA”) published in the Federal Register on Wednesday, August 9, 2000 (65 FR 48738), which was a duplicate of a notice previously published on Tuesday, July 11, 2000 (65 FR 42726), is retracted.

Constance K. Robinson,
Director of Operations, Antitrust Division.

[FR Doc. 01-7779 Filed 3-28-01; 8:45 am]

BILLING CODE 4410-11-M